DEPARTMENT OF TRANSPORTATION

Federal Aviation Administration

Notice of Passenger Facility Charge (PFC) Approvals and Disapprovals

AGENCY: Federal Aviation Administration (FAA), DOT.

ACTION: Monthly Notice of PFC Approvals and Disapprovals. In February 2010, there were three applications approved. Additionally, two approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 15829.

PFC Applications Approved

Public Agency: Port of Portland, Portland, Oregon.

Application Number: 10-10-C-00-PDX.

Application Type: Impose and use a PFC.

PFC Level: $4.50.

Total PFC Revenue Approved in this Decision: $55,895,170.

Earliest Charge Effective Date: March 1,2018.

Estimated Charge Expiration Date: August 1, 2020.

Classes of Air Carriers not Required to Collect PFC'S:(1) Nonscheduled/on-demand air carriers that enplane less than 2,500 passengers per year at Portland International Airport (PDX); and (2) commuters or small certificated air carriers that enplane less than 2,500 passengers per year at PDX.

Determination: Approved. Based on information contained in the public agency's application, the FAA has determined that each approved class accounts for less than 1 percent of the total annual enplanements at PDX.

Brief Description of Project Approved for Collection and Use at a $4.50 PFC Level:

In-line baggage screening improvements.

Brief Description of Projects Approved for Collection and Use at a $3.00 PFC Level:

Taxiway connectors rehabilitation.

Rehabilitate taxiways E and F intersection.

Snow storage pad slurry seal.

Glycol apron slurry seal.

Rehabilitate east general aviation apron.

General aviation apron slurry seal.

Decision Date: February 5, 2010.

FOR FURTHER INFORMATION CONTACT: Trang Tran, Seattle Airports District Office, (425) 227-1662.

Public Agency: Monroe County Board of County Commissioners, Key West, Florida.

Application Number: 10-14-C-00-EYW.

Application Type: Impose and use a PFC.

PFC Level: $4.50.

Total PFC Revenue Approved in this Decision: $877,692.

Earliest Charge Effective Date: December 1, 2015.

Estimated Charge Expiration Date: January 1, 2017.

Class of Air Carriers not Required to Collect PFC'S:None.

Brief Description of Projects Approved for Collection at Key West International Airport (EYW) and Use at EYW:

Runway safety area design.

Runway safety area construction.

Approach clearing—design.

Runway obstruction clearing—design.

Runway obstruction clearing, phase II—construction.

Noise implementation plan, phase 6—design.

Noise implementation plan, phase 6—construction.

Noise implementation plan, phase 7—design.

Noise implementation plan, phase 7—construction.

Airport layout plan update.

Wildlife plan implementation.

Apron drainage rehabilitation.

Apron concrete parking.

Prepare PFC application.

Brief Description of Projects Approved for Collection at EYW and Use at the Florida Keys Marathon Airport:

Airport layout plan update.

Enhance taxiway markings.

Environmental assessment, runway relocation and extension.

Mark runway pavement.

Brief Description of Disapproved Project:

Man-lift.

Determination: The FAA determined that this equipment is for maintenance purposes and, therefore, is not PFC eligible.

Decision Date: February 10, 2010.

FOR FURTHER INFORMATION CONTACT: Susan Moore, Orlando Airports District Office, (407) 812-6331.

Public Agency: Palm Beach County Department of Airports, West Palm Beach, Florida.

Application Number: 10-10-C-00-PBI.

Application Type: Impose and use a PFC.

PFC Level: $4.50.

Total PFC Revenue Approved in this Decision: $11,868,332.

Earliest Charge Effective Date: April 1, 2010.

Estimated Charge Expiration Date: September 1, 2010.

Class Of Air Carriers not Required to Collect PFC'S:Air taxi/commercial operators filing FAA Form 1800-31.

Determination: Approved. Based on information contained in the public agency's application, the FAA has determined that the approved class accounts for less than 1 percent of the total annual enplanements at Palm Beach International Airport (PBI).

Brief Description of Projects Approved for Collection at PBI and USE at PBI at a $4.50 PFC Level:

Runway pavement rehabilitation and repairs.

Taxiway pavement rehabilitation and repairs.

Apron pavement rehabilitation and repairs.

Air cargo ramp expansion.

Brief Description of Projects Approved for Collection at PBI and USE at PBI at a $3.00 PFC Level:

Baggage system improvements—programming and conceptual design.

Common use terminal equipment.

PFC implementation and administrative costs.

Brief Description of Project Approved for Collection at PBI for Future use at North Palm Beach General Aviation Airport (F45) at a $3.00 PFC Level:

Wetland mitigation credits.

BRIEF DESCRIPTION OF PROJECT APPROVED FOR COLLECTION AT PBI AND USE AT F45 AT A $3.00 PFC LEVEL:

Connection to county water and sewer service.

Brief Description of Projects Approved for Collection At PBI and Use at Palm Beach County Park at a $3.00 PFC Level:

Runway 15/33 repair/rehabilitation.

Terminal apron rehabilitation.

Taxiway C rehabilitation.

Brief Description of Project Partially Approved for Collection at PBI and Use at PBI at a $3.00 PFC Level:

Federal inspection services expansion.

DETERMINATION: Partially approved. The FAA determined that the renovation of the Customs and Immigration offices is ineligible per paragraph 611c of FAA Order 5100.38C, Airport Improvement Program Handbook (June 28, 2006). In addition, the cost of the three new immigration booths is not eligible because the public agency did not provide documentation from the United States Citizenship and Immigration Services indicating that this agency would staff the additional facilities.

Brief Description of Withdrawn Project:

Remote receiver relocation.

Date of Withdrawal: December 2, 2009.

Decision Date: February 23, 2010.

FOR FURTHER INFORMATION CONTACT: Susan Moore, Orlando Airports District Office, (407) 812-6331.

Amendments to PFC Approvals
Amendment number, city, state | Amendment approved date | Original approved net PFC revenue | Amended approved net PFC revenue | Original estimated charge exp. date | Amended estimated charge exp. date
04-02-C-01-ROA Roanoke, VA. | 2/03/10 | $8,483,280 | $8,158,043 | 01/01/11 | 11/01/11
06-04-C-01-BRD Brainerd MN. | 2/09/10 | 1,437,204 | 1,424,855 | 07/01/24 | 08/01/33

Issued in Washington, DC on March 11, 2010.
Joe Hebert,
Manager, Financial Analysis and Passenger Facility Charge Branch.

[FR Doc. 2010-5899 Filed 3-18-10; 8:45 am]

BILLING CODE 4910-13-M